DEPARTMENT OF COMMERCE

National Oceanic and Atmospheric Administration

[RTID 0648-XC785]

Marine Mammals; File No. 27057

AGENCY: National Marine Fisheries Service (NMFS), National Oceanic and Atmospheric Administration (NOAA), Commerce.

ACTION: Notice; receipt of application.

SUMMARY: Howard Rosenbaum, Ph.D., Wildlife Conservation Society, 2300 Southern Blvd., Bronx, New York 10460, has applied in due form for a permit to conduct research on 14 species of cetaceans within the New York Bight.

DATES: Written, telefaxed, or email comments must be received on or before May 3, 2023.

ADDRESSES: The application and related documents are available for review by selecting “Records Open for Public Comment” from the “Features” box on the Applications and Permits for Protected Species (APPS) home page, https://apps.nmfs.noaa.gov, and then selecting File No. 27057 from the list of available applications. These documents are also available upon written request via email to NMFS.Pr1Comments@noaa.gov.

Written comments on this application should be submitted via email to NMFS.Pr1Comments@noaa.gov. Please include File No. 27057 in the subject line of the email comment.

Those individuals requesting a public hearing should submit a written request via email to NMFS.Pr1Comments@noaa.gov. The request should set forth the specific reasons why a hearing on this application would be appropriate.

FOR FURTHER INFORMATION CONTACT: Courtney Smith, Ph.D., or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222 through 226).

The applicant requests a 5-year permit to conduct scientific research on marine mammals to: (1) monitor occurrence, distribution, and behavior using photo-ID data, genetic data, behavioral data, and non-invasive suction cup tagging; and (2) determine sex, population structure, and analyze stable isotopes using remote biopsy samples. Research activities will take place in the New York Bight (NYB), spanning from Montauk, New York to Cape May, New Jersey and from the shore to the continental shelf. Fieldwork will involve vessel surveys, biopsy sampling, photo-ID, seawater collection for eDNA analysis, targeted non-invasive suction cup tagging, and the collection of photos and videos. Biopsy samples may be exported for genetic analysis.

Up to 500 annual takes of the following species are requested: blue (Balaenoptera musculus), Cuvier's beaked (Ziphiidae cavirostris); fin (B. physalus), minke (B. acutorostrata), humpback (Megaptera novaeangliae), North Atlantic right (Eubalaena glacialis; photo-ID and behavioral observations only), sei (B. borealis), short-finned pilot whale (Globicephala macrorhynchus), and sperm (Physeter macrocephalus) whales; Atlantic white-sided (Lagenorhynchus acutus), bottlenose (Tursiops truncatus), short-beaked common (Delphinus delphis), and Risso's (Grampus griseus) dolphins; and harbor porpoise (Phocoena phocoena).

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 28, 2023.
Julia M. Harrison,
Chief, Permits and Conservation Division, Office of Protected Resources, National Marine Fisheries Service.

[FR Doc. 2023-06787 Filed 3-31-23; 8:45 am]

BILLING CODE 3510-22-P